DEPARTMENT OF TRANSPORTATION

Federal Aviation Administration

14 CFR Part 39

[Docket No. 2004-NM-29-AD; Amendment 39-13673; AD 2004-03-34 R1]

RIN 2120-AA64

Airworthiness Directives; Boeing Model 737-100, -200, -200C, -300, -400, and -500 Series Airplanes

AGENCY: Federal Aviation Administration, DOT.

ACTION: Final rule; correction.

SUMMARY: This document corrects a typographical error that appeared in airworthiness directive (AD) 2004-03-34 R1 that was published in the Federal Register on June 16, 2004 (69 FR 33555). A reference to the amendment number was inadvertently omitted from a heading in the AD. This AD is applicable to certain Boeing Model 737-100, -200, -200C, -300, -400, and -500 series airplanes. This AD requires replacing existing screw, nut, and washers that attach the latch cable assembly to the latch block assembly of the door mounted escape slides, with new, improved screw, nut, and washers.

DATES: Effective July 21, 2004.

FOR FURTHER INFORMATION CONTACT: Keith Ladderud, Aerospace Engineer, Cabin Safety and Environmental Systems Branch, ANM-150S, FAA, Seattle Aircraft Certification Office, 1601 Lind Avenue, SW., Renton, Washington 98055-4056; telephone (425) 917-6435; fax (425) 917-6590.

SUPPLEMENTARY INFORMATION: Airworthiness Directive (AD) 2004-03-34 R1, amendment 39-13673, applicable to certain Boeing Model 737-100, -200, -200C, -300, -400, and -500 series airplanes, was published in the Federal Register on June 16, 2004 (69 FR 33555). That AD requires replacing existing screw, nut, and washers that attach the latch cable assembly to the latch block assembly of the door mounted escape slides, with new, improved screw, nut, and washers.

As published, the heading preceding the “Applicability” paragraph has a typographical error. That airworthiness directive reads as “2004-03-34 R1 Boeing: Docket 2004-NM-29-AD. Revises AD 2004-03-34, Amendment 39-13478.” However, the new amendment number, 39-13673, was inadvertently omitted. That airworthiness directive should have read “2004-03-34 R1 Boeing: amendment 39-13673. Docket 2004-NM-29-AD. Revises AD 2004-03-34, Amendment 39-13478.”

Since no other part of the regulatory information has been changed, the final rule is not being republished in the Federal Register.

The effective date of this AD remains July 21, 2004.

PART 39—AIRWORTHINESS DIRECTIVES

§ 39.13 [Corrected]

On page 33556, in the third column, the section preceding the “Applicability” paragraph of AD 2004-03-34 R1 is corrected to read as follows:

* * * * *

2004-03-34 R1 Boeing: Amendment 39-13673. Docket 2004-NM-29-AD. Revises AD 2004-03-34, Amendment 39-13478.

* * * * *

Issued in Renton, Washington, on June 29, 2004.
Kalene C. Yanamura,
Acting Manager, Transport Airplane Directorate, Aircraft Certification Service.

[FR Doc. 04-15365 Filed 7-7-04; 8:45 am]

BILLING CODE 4910-13-P